DEPARTMENT OF ENERGY

Federal Energy Regulatory Commission

[Project No. 12607-001]

Town of Massena; Notice of Dispute Resolution Panel Meeting and Technical Conference

November 30, 2007.

On November 26, 2007, Commission staff, in response to the filing of a notice of study dispute by the New York State Department of Environmental Conservation on November 8, 2007, convened two three-person Dispute Resolution Panels pursuant to 18 CFR 5.14(d).

The Panels will hold a two-session technical conference at the times and place noted below. The morning session (Session 1) will address study disputes regarding impacts related to floodplain, ice management, municipal combined sewer overflows and infrastructure. The afternoon session (Session 2) will address study disputes regarding sampling for sturgeon movement and spawning and the Phase II ASTM environmental site assessment. The focus of the technical session is for the disputing agency, applicant, and Commission to provide the Panels with additional information necessary to evaluate the disputed studies. All local, state, and federal agencies, Indian tribes, and other interested parties are invited to attend the meeting as observers. The Panels may also request information or clarification on written submissions as necessary to understand the matters in dispute. The Panels will limit all input that it receives to the specific studies or information in dispute and will focus on the applicability of such studies or information to the study criteria stipulated in 18 CFR 5.9(b). If the number of participants wishing to speak creates time constraints, the Panels may, at their discretion, limit the speaking time for each participant.

Technical Conference

Date: December 12, 2007.

Session 1: 9 a.m.-11:30 a.m. (EST).

Session 2: 1 p.m.-4 p.m.

Place: Doubletree Hotel Syracuse, 6301 State Route 298, East Syracuse, New York 13057.

Phone: 315-432-0200.

Nathaniel J. Davis, Sr.,
Deputy Secretary.

[FR Doc. E7-23751 Filed 12-6-07; 8:45 am]

BILLING CODE 6717-01-P